DEPARTMENT OF THE INTERIOR

Bureau of Reclamation

[RR83550000, 201R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Michelle Kelly, Reclamation Law Administration Division, Bureau of Reclamation, P.O. Box 25007, Denver, Colorado 80225-0007; mkelly@usbr.gov; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

XM Extraordinary maintenance

FR Federal Register

IDD Irrigation and Drainage District

ID Irrigation District

M&I Municipal and Industrial

O&M Operation and Maintenance

OM&R Operation, Maintenance, and Replacement

P-SMBP Pick-Sloan Missouri Basin Program

RRA Reclamation Reform Act of 1982

SOD Safety of Dams

SRPA Small Reclamation Projects Act of 1956

USACE U.S. Army Corps of Engineers

WD Water District

COLUMBIA-PACIFIC NORTHWEST—INTERIOR REGION 9: Bureau of Reclamation, 1150 North Curtis Road, Suite 100, Boise, Idaho 83706-1234, telephone 208-378-5344.

New contract action:

17. Title transfer agreements; Idaho, Washington, Oregon, Montana, and Wyoming: Potential title transfers agreements pursuant to the John D. Dingell, Jr. Conservation, Management, and Recreation Act of March 12, 2019 (Pub. L. 116-9).

CALIFORNIA-GREAT BASIN—INTERIOR REGION 10: Bureau of Reclamation, 2800 Cottage Way, Sacramento, California 95825-1898, telephone 916-978-5250.

New contract action:

52. Title transfer agreements; California, Nevada, and Oregon: Potential title transfers agreements pursuant to the John D. Dingell, Jr. Conservation, Management, and Recreation Act of March 12, 2019 (Pub. L. 116-9).

Completed contract action:

45. San Luis and Delta-Mendota Water Authority, CVP, California: Renewal of OM&R contract. Contract executed January 14, 2020.

LOWER COLORADO BASIN—INTERIOR REGION 8: Bureau of Reclamation, P.O. Box 61470 (Nevada Highway and Park Street), Boulder City, Nevada 89006-1470, telephone 702-293-8192.

New contract actions:

14. Wilbur G. and Carrol D. Schroeder, BCP, California: Terminate contract No. 6-07-30-W0137 for delivery of Colorado River water under Present Perfected Right No. 38 as described in the 2006 Consolidated Decree in Arizona v. California, 547 U.S. 150.

15. Sunmor Properties, Inc., BCP, California: Terminate contract No. 6-07-30-W0139 for delivery of Colorado River water under Present Perfected Right No. 38 as described in the 2006 Consolidated Decree in Arizona v. California, 547 U.S. 150.

16. Ronnie and Linda Herndon, BCP, California: Terminate contract No. 6-07-30-W0138 for delivery of Colorado River water under Present Perfected Right No. 38 as described in the 2006 Consolidated Decree in Arizona v. California, 547 U.S. 150.

17. Jack D. Brown, BCP, California: Terminate contract No. 7-07-30-W0149 for delivery of Colorado River water under Present Perfected Right No. 38 as described in the 2006 Consolidated Decree in Arizona v. California, 547 U.S. 150.

18. Palms River Resort, Inc., BCP, California: Offer a contract to the current landowner for delivery of Colorado River water under Present Perfected Right No. 38 as described in the 2006 Consolidated Decree in Arizona v. California, 547 U.S. 150.

Completed contract actions:

9. Fort McDowell Yavapai Nation and Central Arizona Water Conservation District, CAP, Arizona: Execute a CAP water lease for Fort McDowell Yavapai Nation to lease 3,933 acre-feet of its CAP water to Central Arizona Water Conservation District during calendar year 2020. Contract executed January 15, 2020.

11. San Carlos Apache Tribe and Pascua Yaqui Tribe, CAP, Arizona: Execute a CAP water lease for San Carlos Apache Tribe to lease 1,720 acre-feet of its CAP water to Pascua Yaqui Tribe during calendar year 2020. Contract executed February 7, 2020.

13. City of Needles and The Metropolitan Water District of Southern California, Lower Colorado Water Supply Project, California: Amend contract No. 06-XX-30-W0452 to extend the timeframe to complete a study that is required under the contract from December 31, 2019, to December 31, 2024. Contract executed January 27, 2020.

UPPER COLORADO BASIN—INTERIOR REGION 7: Bureau of Reclamation, 125 South State Street, Room 8100, Salt Lake City, Utah 84138-1102, telephone 801-524-3864.

New contract action:

30. Title transfer agreements; Arizona, Colorado, New Mexico, Texas, Utah, and Wyoming: Potential title transfers agreements pursuant to the John D. Dingell, Jr. Conservation, Management, and Recreation Act of March 12, 2019 (Pub. L. 116-9).

Completed contract action:

29. Mancos Water Conservancy District, Mancos Project, Mancos, Colorado: Pursuant to Public Law 106-549 (114 Stat. 2743), the Secretary is authorized to contract with the District for the use of project facilities for the impounding, storage, diversion, and carriage of non-project water for the purpose of irrigation, domestic, M&I, and any other beneficial purposes. Contract No. 19-WC-40-750, among the District, Reclamation, and the Miles Trust, for carriage of 0.25 cfs is pending execution following approval of NEPA documentation. Contract executed March 10, 2020.

MISSOURI BASIN—INTERIOR REGION 5: Bureau of Reclamation, P.O. Box 36900, Federal Building, 2021 4th Avenue North, Billings, Montana 59101, telephone 406-247-7752.

New contract actions:

34. Dickey-Sargent ID; Garrison Diversion Unit, P-SMBP; North Dakota: Consideration for a repayment contract for assigned power investment costs.

35. Pitkin County, Ruedi Reservoir, Fryingpan-Arkansas Project, Colorado: Consideration of excess capacity contract at Ruedi Reservoir.

36. Denise J. Evans, Shoshone Project, Wyoming: Consideration for renewal of contract No. 009E6A0045.

37. Gering-Fort Laramie ID, North Platte Project, Wyoming and Nebraska: Consideration of repayment contract for XM funded pursuant to Subtitle G of Public Law 111-11.

38. Huntley ID, Huntley Project, Montana: Consideration of repayment contract for XM funded pursuant to Subtitle G of Public Law 111-11.

39. Title transfer agreements; Colorado, Kansas, Montana, Nebraska, North Dakota, Oklahoma, South Dakota, Texas, and Wyoming: Potential title transfers agreements pursuant to the John D. Dingell, Jr. Conservation, Management, and Recreation Act of March 12, 2019 (Pub. L. 116-9).

Modified contract action:

24. Dickey-Sargent ID; Garrison Diversion Unit, P-SMBP; North Dakota: Consideration of a contract for irrigation storage in Jamestown Reservoir.

Completed contract actions:

19. Mid-Dakota Rural Water System, Inc., South Dakota: Consideration of an amendment to agreement No. 5-07-60-W0223 to reflect the payoff of loans. Contract executed January 31, 2019.

29. Ptarmigan Partners, LLC and Christine-Elliot Armstrong Revocable Trust and Andrew W. Armstrong Revocable Trust, Shoshone Project, Cody, Wyoming: Consideration for amendment to contract No. 019E6A0227. Contract executed December 16, 2019.

Discontinued contract action:

13. North Dakota State Water Commission, Snake Creek Pumping Plant, North Dakota: Consideration for a use-of-facilities contract.

Lisa A. Vehmas,
Acting Director, Policy and Programs.

[FR Doc. 2020-13984 Filed 6-29-20; 8:45 am]

BILLING CODE 4332-90-P